DEPARTMENT OF THE INTERIOR

Bureau of Safety and Environmental Enforcement

[Docket ID BSEE-2012-0012; OMB Control Number 1014-0013]

Information Collection Activities: Notice to Lessees and/or Operators (NTL)—Gulf of Mexico OCS Region—GPS (Global Positioning System) for MODUs (Mobile Offshore Drilling Units); Submitted for Office of Management and Budget (OMB) Review; Comment Request

ACTION: 30-day notice.

SUMMARY: To comply with the Paperwork Reduction Act of 1995 (PRA), we are notifying the public that we have submitted to OMB an information collection request (ICR) to renew approval of the paperwork requirements associated with 30 CFR part 250, subpart A, General, and related documents. This notice also provides the public a second opportunity to comment on the revised paperwork burden of these requirements.

DATES: You must submit comments by January 7, 2013.

ADDRESSES: Submit comments by either fax (202) 395-5806 or email (OIRA_Submission@omb.eop.gov) directly to the Office of Information and Regulatory Affairs, OMB, Attention: Desk Officer for the Department of the Interior (1014-0013). Please provide a copy of your comments to BSEE by any of the means below.

• Electronically: go to http://www.regulations.gov. In the entry titled, Enter Keyword or ID, enter BSEE-2012-0012 then click search. Follow the instructions to submit public comments and view all related materials. We will post all comments.

• Email: cheryl.blundon@bsee.gov, fax (703) 787-1546, or mail or hand-carry comments to: Department of the Interior; BSEE; Regulations and Standards Branch (RSB); ATTN: Cheryl Blundon; 381 Elden Street, HE3313; Herndon, Virginia 20170-4817. Please reference 1014-0013 in your comment and include your name and return address.

FOR FURTHER INFORMATION CONTACT: Cheryl Blundon, RSB, (703) 787-1607, to request additional information about this ICR. To see a copy of the entire ICR submitted to OMB, go to http://www.reginfo.gov (select Information Collection Review, Currently Under Review).

SUPPLEMENTARY INFORMATION: Title: Notice to Lessees and/or Operators (NTL)—Gulf of Mexico OCS Region—GPS (Global Positioning System) for MODUs (Mobile Offshore Drilling Units).

OMB Control Number: 1014-0013.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; to preserve and maintain free enterprise competition; and to ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, BSEE issues regulations to ensure that operations in the OCS will meet statutory requirements; provide for safety and protect the environment; and result in diligent exploration, development, and production of OCS leases. In addition, we also issue NTLs that provide clarification, explanation, and interpretation of our regulations. These NTLs are used to convey purely informational material and to cover situations that might not be adequately addressed in our regulations.

The subject of this ICR is an NTL, GPS (Global Positioning System) for MODUs (Mobile Offshore Drilling Units). This NTL requires MODUs to be equipped with multiple tracking/location devices so that during a storm event (hurricane) the respondent, as well as BSEE, will have the capability to monitor their locations. This NTL also provides BSEE GPS data access thereby granting us real-time location information as needed for the Hurricane Response Team (HRT).

The primary regulation for this IC is 30 CFR part 250, Subpart A, approved under the OMB Control Number 1014-0013. However, in connection with this subpart, the burden requirements in the NTL are in addition to the currently approved paperwork burdens under those requirements.

The information to be collected is necessary for BSEE to assess the whereabouts of any MODU becoming unmoored due to extreme weather situations; as well as, to follow the path of that facility to determine if other facilities/pipelines, etc., were damaged in any way. The offshore oil and gas industry will use the information to determine the safest and quickest way to either remove the obstacles or to fix and reuse them.

Regulations at 30 CFR part 250 implement these statutory requirements. The information to be collected is necessary for BSEE to assess the whereabouts of any MODU becoming unmoored due to extreme weather situations; as well as, to follow the path of that facility to determine if other facilities/pipelines, etc., were damaged in any way. The offshore oil and gas industry will use the information to determine the safest and quickest way to either remove the obstacles or to fix and reuse them.

Responses are required to obtain or retain a benefit. No questions of a sensitive nature are asked. We will protect information considered proprietary according to Freedom of Information Act (5 U.S.C. 552) and its implementing regulations (43 CFR part 2), and 30 CFR 250.197, Data and information to be made available to the public or for limited inspection.

Frequency: On occasion.

Description of Respondents: Potential respondents comprise Federal oil and gas lessees and operators that drill using MODUs.

Estimated Reporting and Recordkeeping Hour Burden: The estimated annual hour burden for this IC is a total of 1 hour. The following chart details the individual components and estimated hour burden. In calculating the burdens, we assumed that respondents perform certain requirements in the normal course of their activities. We consider these to be usual and customary and took that into account in estimating the burden.

NTL—Gulf of Mexico OCS Region— GPS for MODUs | Hour burden | Average number of annual responses | Annual burden hours
| Non-Hour Cost Burdens
1—Notify BSEE with tracking/locator data access; notify BSEE Hurricane Response Team as soon as operator is aware a rig has moved off location | 15 mins | 1 rig * | 1 hour (rounded).
| 15 mins | 1 notification * |
2—Purchase and install tracking/locator devices—(these are replacement GPS devices or new rigs) | 20 devices per year for replacement and/or new x $325.00 = $6,500.
3—Pay monthly tracking fee for GPS devices already placed on MODUs/rig | 40 rigs at $50/month = $600/year = $24,000.
4—Rent GPS devices and pay monthly tracking fee per rig | 40 rigs @ $1,800 per year = $72,000.
TOTAL BURDEN | 102 Responses | 1 Hour.
| $ 102,500 non-hour cost burden.

Estimated Reporting and Recordkeeping Non-Hour Cost Burden: We have identified 3 non-hour cost burdens associated with the collection of information. The non-hour cost burdens in this IC total an estimated $102,500 and they are: the actual GPS device—$325; paying a monthly tracking fee for devices physically located on a MODU—$50/mo or $600/year; and renting the GPS devices and paying a monthly tracking fee totaling—$1,800 per year.

We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “ * * * to provide notice * * * and otherwise consult with members of the public and affected agencies concerning each proposed collection of information * * * ” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on June 21, 2012, we published a Federal Register notice (77 FR 37430) announcing that we would submit this ICR to OMB for approval. The notice provided the required 60-day comment period. In addition, § 250.199 provides the OMB control number for the information collection requirements imposed by the 30 CFR part 250 regulations. The regulation also informs the public that they may comment at any time on the collections of information and provides the address to which they should send comments. We received no comments in response to these efforts.

Public Availability of Comments: Before including your address, phone number, email address, or other personal identifying information in your comment, you should be aware that your entire comment—including your personal identifying information—may be made publicly available at any time. While you can ask us in your comment to withhold your personal identifying information from public review, we cannot guarantee that we will be able to do so.

Dated: November 29, 2012.
Robert W. Middleton,
Deputy Chief, Office of Offshore Regulatory Programs.

[FR Doc. 2012-29422 Filed 12-5-12; 8:45 am]

BILLING CODE 4310-VH-P